ENVIRONMENTAL PROTECTION AGENCY

[EPA-HQ-OPPT-2003-0004; FRL-12447-01-OCSPP]

Access to Confidential Business Information by General Dynamics Information Technology (GDIT) and its Subcontractors

AGENCY: Environmental Protection Agency (EPA).

ACTION: Notice.

SUMMARY: EPA has authorized its contractor General Dynamics Information Technology (GDIT) of Falls Church, VA, and its subcontractors to access information which has been submitted to EPA under the Toxic Substances Control Act (TSCA). Some of the information may be claimed or determined to be Confidential Business Information (CBI).

DATES: Access to the confidential data will occur no sooner than January 2, 2025.

FOR FURTHER INFORMATION CONTACT:

For technical information: Colby Lintner or Adam Schwoerer, Program Management and Operations Division (7407M), Office of Pollution Prevention and Toxics, Environmental Protection Agency, 1200 Pennsylvania Ave. NW, Washington, DC 20460-0001; telephone number: (202) 564-8182; email address: lintner.colby@epa.gov; or (202) 564-4767; schwoerer.adam@epa.gov.

For general information: The TSCA-Hotline, ABVI-Goodwill, 422 South Clinton Ave., Rochester, NY 14620; telephone number: (202) 554-1404; email address: TSCA-Hotline@epa.gov.

SUPPLEMENTARY INFORMATION:

I. Does this action apply to me?

This action is directed to the public in general. This action may, however, be of particular interest to those who submit certain information or data to EPA under the Toxic Substances Control Act (TSCA). Since other entities may also be interested, the Agency has not attempted to describe all the specific entities that may be affected by this action.

II. What action is the Agency taking?

Under contract number 47QTCK18D0003, task order number 47QFCA22F0018, contractor General Dynamics Information Technology (GDIT) of 3150 Fairview Park Drive, Falls Church, VA 22042, and its subcontractors will assist the Office of Pollution Prevention and Toxics (OPPT) by hosting the servers and managing the infrastructure where TSCA CBI resides.

In accordance with 40 CFR 2.306(j), EPA has determined that under EPA contract number 47QTCK18D0003, task order number 47QFCA22F0018, GDIT and its subcontractors will require access to CBI submitted to EPA under all sections of TSCA to perform successfully the duties specified under the contract. GDIT's and its subcontractor's personnel will be given access to information claimed or determined to be CBI information submitted to EPA under all sections of TSCA. Some of the information may be claimed or determined to be CBI.

EPA is issuing this notice to inform all submitters of information under all sections of TSCA that EPA will provide the herein identified contractor and its subcontractors with access to the CBI materials on a need-to-know basis only. All access to TSCA CBI under this contract, in accordance with EPA's TSCA CBI Protection Manual and the Rules of Behavior for Virtual Desktop Access to OPPT Materials, including TSCA CBI, will take place at EPA Headquarters, and/or at the following facilities of the contractor and/or subcontractors:

• Berrett & Associates, Inc., P.O. Box 2891, Sterling, VA 20167.

• CompTech Computer Technologies, Inc., 7777 Washington Village Drive, Suite 270 Dayton, OH 45459.

• Gridiron IT Solutions, LLC, 7777 Washington Village Drive, Suite 270 Dayton, OH 45459.

• IdentityNest, 115100 Weston Pkwy. #103, Cary, NC 27513.

• SCI Consulting Services, Inc., 4005 Taylor Drive, Fairfax, VA 21032; Shineteck, Inc., 5000 Ritter Road, Suite 202.

• Mechanicsburg, WV 17055.

• SkyePoint Decisions, Inc., 45240 Business Court, Suite 160, Dulles, VA 20166.

• SONA NETWORKS, LLC, 516 North Charles Street, Suite 311, Baltimore, MD 21201.

• TITANONEZERO, LLC, 7666 Fullertone Road, Unit G, Springfield, VA 22153.

• Woolpert, Inc., 4454 Idea Center Blvd., Dayton, OH 45402.

The personnel of the contractor and subcontractors will be required to sign nondisclosure agreements and will be briefed on specific security procedures for TSCA CBI.

Access to TSCA data, including CBI, will continue until April 24, 2029. If the contract is extended, this access will also continue for the duration of the extended contract without further notice.

Authority: 15 U.S.C. 2601 et seq.

Dated: December 18, 2024.
Pamela Myrick,
Director, Project Management and Operations Divisions, Office of Pollution Prevention and Toxics.

[FR Doc. 2024-30731 Filed 12-23-24; 8:45 am]

BILLING CODE 6560-50-P